DEPARTMENT OF COMMERCE

International Trade Administration

[C-489-830]

Steel Concrete Reinforcing Bar From the Republic of Turkey: Final Results of Countervailing Duty Administrative Review; 2017

AGENCY: Enforcement and Compliance, International Trade Administration, Department of Commerce.

SUMMARY: The Department of Commerce (Commerce) determines that Habas Sinai ve Tibbi Gazlar Istihsal Endustrisi A.S. (Habas), a producer/exporter of steel concrete reinforcing bar (rebar) from the Republic of Turkey (Turkey) received net countervailable subsidies during the period of review March 1, 2017 through December 31, 2017.

DATES: Applicable March 20, 2020.

FOR FURTHER INFORMATION CONTACT: Nancy Decker, AD/CVD Operations, Office VII, Enforcement and Compliance, International Trade Administration, U.S. Department of Commerce, 1401 Constitution Avenue NW, Washington, DC 20230; telephone: (202) 482-0196.

SUPPLEMENTARY INFORMATION:

Background

Commerce published the Preliminary Results of this administrative review on September 16, 2019.¹ For a history of events that occurred since the Preliminary Results, see the Issues and Decision Memorandum.² On December 2, 2019, Commerce extended the deadline for the final results of this administrative review until March 13, 2020.³

¹ See Steel Concrete Reinforcing Bar from the Republic of Turkey: Preliminary Results of Countervailing Duty Administrative Review; 2017, 84 FR 48583 (September 16, 2019) (Preliminary Results) and accompanying Preliminary Decision Memorandum.

² See Memorandum, “Issues and Decision Memorandum for the Final Results of the Countervailing Duty Administrative Review of Steel Concrete Reinforcing Bar from the Republic of Turkey; 2017,” dated concurrently with, and hereby adopted by, this notice (Issues and Decision Memorandum).

³ See Memorandum, “Steel Concrete Reinforcing Bar from the Republic of Turkey: Extension of Deadline for Final Results in 2017 Countervailing Duty Administrative Review,” dated December 2, 2019.

Scope of the Order ⁴

⁴ See Steel Concrete Reinforcing Bar From the Republic of Turkey: Amended Final Affirmative Countervailing Duty Determination and Countervailing Duty Order, 82 FR 32531 (July 14, 2017) (Order).

The merchandise covered by the Order is steel concrete reinforcing bar (rebar). For a complete description of the scope, see the Issues and Decision Memorandum.

Analysis of Comments Received

All issues raised in interested parties' briefs are addressed in the Issues and Decision Memorandum. The Issues and Decision Memorandum is a public document and is on file electronically via Enforcement and Compliance's Antidumping and Countervailing Duty Centralized Electronic Service System (ACCESS). ACCESS is available to registered users at http://access.trade.gov, and to all parties in the Central Records Unit, Room B8024 of the main Commerce building. In addition, a complete version of the Issues and Decision Memorandum can be accessed directly at http://enforcement.trade.gov/frn/. The signed and electronic versions of the Preliminary Decision Memorandum are identical in content. A list of the issues raised by interested parties, and to which we responded in the Issues and Decision Memorandum, is provided in the Appendix to this notice.

Methodology

Commerce conducted this administrative review in accordance with section 751(a)(1)(A) of the Tariff Act of 1930, as amended (the Act). For each of the subsidy programs found countervailable, we determine that there is a subsidy, i.e., a government-provided financial contribution that gives rise to a benefit to the recipient, and that the subsidy is specific.⁵ For a full description of the methodology underlying Commerce's conclusions, see the Issues and Decision Memorandum.

⁵ See sections 771(5)(B) and (D) of the Act regarding financial contribution; section 771(5)(E) of the Act regarding benefit; and section 771(5A) of the Act regarding specificity.

Final Results of the Review

In accordance with 19 CFR 351.221(b)(5), we determine the following net countervailable subsidy rate for Habas, for the period March 1, 2017 through December 31, 2017:

Company | Subsidy rate ad valorem
Habas Sinai ve Tibbi Gazlar Istihsal Endustrisi A.S. ⁶ | 3.37 percent

Disclosure

We will disclose to the parties in this proceeding the calculations performed for these final results within five days of the date of publication of this notice in the Federal Register.⁷

⁶ This rate applies only to merchandise both produced and exported by Habas. Merchandise produced by Habas, but exported by another company, or produced by another company and exported by Habas continues to be covered by Steel Concrete Reinforcing Bar from the Republic of Turkey: Countervailing Duty Order, 79 FR 65926 (Nov. 6, 2014).

⁷ See 19 CFR 351.224(b).

Assessment and Cash Deposit Requirements

In accordance with 19 CFR 351.212(b)(2), Commerce intends to issue assessment instructions to U.S. Customs and Border Protection (CBP) 15 days after the date of publication of these final results of review, to liquidate shipments of subject merchandise produced and exported by Habas and entered, or withdrawn from warehouse, for consumption on or after March 1, 2017 through December 31, 2017, at the ad valorem assessment rate listed above.

In accordance with section 751(a)(1) of the Act, Commerce also intends to instruct CBP to collect cash deposits of estimated countervailing duties in the amount shown above for Habas. These cash deposit requirements, when imposed, shall remain in effect until further notice.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

Notification to Interested Parties

These final results are issued and published in accordance with sections 751(a)(1) and 777(i)(1) of the Act.

Dated: March 13, 2020.
Jeffrey I. Kessler,
Assistant Secretary for Enforcement and Compliance.

Appendix

List of Topics Discussed in the Issues and Decision Memorandum

I. Summary

II. Background

III. Scope of the Order

IV. Subsidies Valuation Information

V. Analysis of Programs

VI. Discussion of the Issues

Comment 1: Benchmark for Provision of Natural Gas for Less Than Adequate Remuneration

Comment 2: Social Security Premium Support Programs

VII. Recommendation

[FR Doc. 2020-05810 Filed 3-19-20; 8:45 am]

BILLING CODE 3510-DS-P